DEPARTMENT OF LABOR

Employment and Training Administration

[TA-W-62,892]

Barnes Aerospace, Ceramics Division, Windsor, CT; Notice of Negative Determination on Reconsideration

On July 11, 2008, the Department issued an Affirmative Determination Regarding Application for Reconsideration for the workers and former workers of the subject firm. The notice was published in the Federal Register on July 21, 2008 (73 FR 42368).

The initial investigation resulted in a negative determination based on the finding that imports of multi-layer ceramic green sheet did not contribute importantly to worker separations at the subject firm and no shift of production to a foreign source occurred.

In the request for reconsideration the petitioner alleged that business at the subject firm declined because the subject firm's major customer is importing or will be importing like or directly competitive products. In particular, the petitioner stated that the customer is changing its purchases from a ceramic based substrate to a plastic based substrate.

On reconsideration the Department of Labor surveyed this declining customer regarding its purchases of like or directly competitive products with multi-layer ceramic green sheet during 2006, 2007, and January through February 2008 over the corresponding 2007 period. The survey revealed that the customer did not import like or directly competitive products with multi-layer ceramic green sheet during the relevant period.

The petitioner also stated that there was a shift in production of multi-layer ceramic green sheet to Taiwan.

The fact that the subject firm's customers are shifting their production abroad is not relevant to this investigation. According to section (a)(2)(B) of the Trade Act, in order to be eligible for TAA on the basis of a shift in production abroad, the shift in production must be implemented by the subject firm or its subdivision.

In this case, the subject firm did not import multi-layer ceramic green sheet nor was there a shift in production from subject firm abroad during the relevant period.

Conclusion

After reconsideration, I affirm the original notice of negative determination of eligibility to apply for worker adjustment assistance for workers and former workers of Barnes Aerospace, Ceramics Division, Windsor, Connecticut.

Signed at Washington, DC this 14th day of August, 2008.
Elliott S. Kushner,
Certifying Officer, Division of Trade Adjustment Assistance.

[FR Doc. E8-19408 Filed 8-20-08; 8:45 am]

BILLING CODE 4510-FN-P